DEPARTMENT OF COMMERCE

National Oceanic and Atmospheric Administration

RIN 0648-XD576

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council's (Council) Summer Flounder, Scup, and Black Sea Bass Monitoring Committee will hold a public meeting, jointly with the Atlantic States Marine Fisheries Commission's (ASMFC's) Summer Flounder, Scup, and Black Sea Bass Technical Committee.

DATES: The meeting will be held on Wednesday, November 12, 2014, from 12:30 p.m. to 5 p.m., on Thursday, November 13, from 8:30 a.m. to 5 p.m., and on Friday, November 14, from 8:30 a.m. to 5 p.m. See SUPPLEMENTARY INFORMATION for meeting topics.

ADDRESSES: The meeting will be held at the Doubletree by Hilton BWI Airport, 890 Elkridge Landing Road, Linthicum, MD 21090; telephone: (410)-859-8060.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The Mid-Atlantic Fishery Management Council's Summer Flounder, Scup, and Black Sea Bass Monitoring Committee, together with the Atlantic States Marine Fisheries Commission's Technical Committee, will meet from Wednesday, November 12 through Friday, November 14 (see DATES and ADDRESSES). Topics to be addressed include:

1. Review of updates to a statistical model for recommending recreational management measures;

2. Monitoring Committee recommendations for recreational management measures for the summer flounder, scup, and black sea bass fisheries for the 2015 fishing year;

3. Technical Committee review of fishery independent indices for black sea bass.

A detailed agenda and background documents will be made available on the Council's Web site (www.mafmc.org) prior to the meeting.

Special Accommodations

The meeting is physically accessible to people with disabilities. Requests for sign language interpretation or other auxiliary aids should be directed to M. Jan Saunders at the Mid-Atlantic Council Office, (302) 526-5251, at least 5 days prior to the meeting date.

Dated: October 21, 2014.
Tracey L. Thompson,
Acting Deputy Director, Office of Sustainable Fisheries, National Marine Fisheries Service.

[FR Doc. 2014-25370 Filed 10-24-14; 8:45 am]

BILLING CODE 3510-22-P